OFFICE OF PERSONNEL MANAGEMENT

Civilian Acquisition Workforce Personnel Demonstration Project; Department of Defense (DoD)

AGENCY: Office of Personnel Management.

ACTION: Notice of amendment to this demonstration to make technical corrections to the list of occupational series included in the project and to change pay setting procedures for Federal employees entering the project after initial implementation.

SUMMARY: Section 4308 of the National Defense Authorization Act for Fiscal Year 1996 (Pub. L. 104-106; 10 U.S.C.A. 1701 note), as amended by section 845 of the National Defense Authorization Act for Fiscal Year 1998 (Pub. L. 105-85), permits the Department of Defense (DoD), with the approval of OPM, to conduct a personnel demonstration project within the Department's civilian acquisition workforce and those supporting personnel assigned to work directly with the acquisition workforce. This notice amends the project plan for this demonstration to: (1) Correct discrepancies in the list of occupational series included in the project and (2) allow managers the authority to offer a buy-in to Federal employees entering the demonstration project after initial implementation.

DATES: This amendment is effective May 21, 2001.

FOR FURTHER INFORMATION CONTACT: DoD: Anthony D. Echols, Civilian Acquisition Workforce Personnel Demonstration, 2001 North Beauregard Street, Suite 750, Alexandria, VA 22311, 703-578-2755. OPM: Mary Lamary, U.S. Office of Personnel Management, 1900 E Street NW., Room 7460, Washington, DC 20415, 202-606-2820.

SUPPLEMENTARY INFORMATION:

1. Background

OPM approved and published the project plan for the Civilian Acquisition Workforce Personnel Demonstration Project in the Federal Register on January 8, 1999 (Volume 64, Number 5, part VII). This demonstration project involves hiring and appointment authorities; broadbanding; simplified classification; a contribution-based compensation and appraisal system; revised reduction-in-force procedures; academic degree and certificate training; and sabbaticals.

2. Overview

The project plan listed two occupational series in the wrong career path, listed one series in two career paths, and omitted a series to which at least one demonstration participant is assigned. This notice corrects these errors.

For examples who enter the project after initial implementation by lateral transfer, reassignment, or realignment, the project did not give managers the authority to offer a base payment adjustment for accrued within-grade increases and/or career ladder promotions.

This notice gives managers that authority.

Dated: May 11, 2001.
Office of Personnel Management.
Steven R. Cohen,
Acting Director.

I. Executive Summary

The project was designed by a Process Action Team (PAT) under the authority of the Under Secretary of Defense for Acquisition and Technology, with the participation of and review by DoD with the Office of Personnel Management (OPM). The purpose of the project is to enhance the quality, professionalism, and management of the DoD acquisition workforce through improvements in the human resources management system

II. Introduction

This demonstration project provides managers, at the lowest practical level, the authority, control, and flexibility they need to achieve quality acquisition processes and quality products. This project not only provides a system that retains, recognizes, and rewards employees for their contribution, but also supports their personal and professional growth.

A. Purpose

The purpose of this notice is to correct discrepancies in the list of occupational series included in the project and to give managers the authority to offer an adjustment in base pay for accrued within-grade increases and/or career ladder promotions. No other changes are made to the sections referred to herein. The changes are hereby made to the Federal Register, Part VII, Civilian Acquisition Workforce Personnel Demonstration Project; Department of Defense; Notice, Volume 64, Number 5, Friday, January 8, 1999; Section II.F., Table 2 and Section V.A. as outlined in the following paragraphs.

B. Employee Notification and Collective Bargaining Requirements

The demonstration project program office will notify employees of this amendment by posting it on the demonstration's web page (www.acqdemo.com). Participating organizations must fulfill any collective bargaining obligations to unions that represent employees covered by the demonstration.

III. Personnel System Changes

Occupational Series Included in the Project

Correct Section II.F., Table 2, Series Included in the DoD Acquisition Workforce Personnel Demonstration Project, as follows:

Technical Management Support (NJ): Add series 0342, Support Services Administration, and series 0682, Dental Hygiene. Delete series 2135, Transportation Loss and Damage Claims Examining, and series 2151, Dispatching.

Administrative Support (NK): Delete Series 0342, Support Services Administrator. Add series 2151, Dispatching.

Employees Entering the Demonstration Project After Initial Implementation

Change that last sentence in the first paragraph of V.A. to read: This conversion process (i.e., “buy-in”) is applicable to employees at the initial entry of their organization into the demonstration project in accordance with the approved implementation plan and subsequently upon an individual's lateral transfer, reassignment, or realignment into the demonstration project. (For purposes of this demonstration, “lateral transfer” is defined as a reassignment across Agencies without a change in rate of basic pay, except as provided by any within-grade increase or career-ladder “buy-in” paid upon conversion.)

Change the last sentence in the third paragraph of V.A. to read: Employees who enter the demonstration project after initial implementation by lateral transfer, reassignment, or realignment will be subject to the same pay conversion rules. Specifically, adjustments to the employee's base salary for a step increase and a non-competitive career ladder promotion will be computed as a prorated share of the current value of the step or promotion increase based upon the number of weeks an employee has completed toward the next higher step or grade at the time the employee moves into the project, consistent with paragraph VIII.A.

[FR Doc. 01-12622 Filed 5-18-01; 8:45 am]

BILLING CODE 6325-43-M